DEPARTMENT OF COMMERCE

International Trade Administration

C-122-815

Pure Magnesium and Alloy Magnesium from Canada: Preliminary Results of Countervailing Duty Administrative Reviews

AGENCY: Import Administration, International Trade Administration, Department of Commerce.

SUMMARY: The Department of Commerce is conducting administrative reviews of the countervailing duty orders on pure magnesium and alloy magnesium from Canada for the period January 1, 2005, through August 15, 2005. We preliminarily find that the countervailing duty rates during the period of review for the producer/exporter covered by these reviews is zero. If the final results remain the same as these preliminary results, we will instruct U.S. Customs and Border Protection to assess countervailing duties as detailed in the “Preliminary Results of Reviews” section of this notice. Interested parties are invited to comment on these preliminary results (see the “Public Comment” section of this notice).

EFFECTIVE DATE: April 20, 2007.

FOR FURTHER INFORMATION CONTACT: Andrew McAllister or Devta Ohri, AD/CVD Operations, Office 1, Import Administration, International Trade Administration, U.S. Department of Commerce, 14th Street and Constitution Avenue, NW, Washington DC 20230; telephone (202) 482-1174 or (202) 482-3853, respectively.

SUPPLEMENTARY INFORMATION:

Case History

On August 31, 1992, the Department of Commerce (“the Department”) published in the Federal Register the countervailing duty orders on pure magnesium and alloy magnesium from Canada (see Countervailing Duty Orders: Pure Magnesium and Alloy Magnesium From Canada, 57 FR 39392 (August 31, 1992) (“Magnesium Investigation”). On August 1, 2006, the Department published a notice of “Opportunity to Request Administrative Review” of these countervailing duty orders (see Antidumping or Countervailing Duty Order, Finding, or Suspended Investigation; Opportunity To Request Administrative Review, 71 FR 44085). We received a timely request for review from Norsk Hydro Canada, Inc. (“NHCI”). On September 29, 2006, we initiated these reviews covering shipments of subject merchandise from NHCI (see Initiation of Antidumping and Countervailing Duty Administrative Reviews, 71 FR 57465).

On October 19, 2006, we issued countervailing duty questionnaires to NHCI, the Government of Québec (“GOQ”), and the Government of Canada (“GOC”). We received questionnaire responses from NHCI on November 20, 2006, the GOQ on November 22, 2006, and the GOC on December 14, 2006.

Scope of the Orders

The products covered by these orders are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to the orders is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Period of Review

The period of review (“POR”) for which we are measuring subsidies is January 1, 2005, through August 15, 2005.

Analysis of Programs

I. Programs Preliminarily Determined To Be Not Used

We examined the following programs and preliminarily determine that NHCI did not apply for or receive benefits under these programs during the POR:

• Article 7 Grant from the Québec Industrial Development Corporation (“SDI”)

• Emploi-Québec Manpower Training Program

• St. Lawrence River Environment Technology Development Program

• Program for Export Market Development

• The Export Development Corporation

• Canada-Québec Subsidiary Agreement on the Economic Development of the Regions of Québec

• Opportunities to Stimulate Technology Programs

• Development Assistance Program

• Industrial Feasibility Study Assistance Program

• Export Promotion Assistance Program

• Creation of Scientific Jobs in Industries

• Business Investment Assistance Program

• Business Financing Program

• Research and Innovation Activities Program

• Export Assistance Program

• Energy Technologies Development Program

• Financial Assistance Program for Research Formation and for the Improvement of the Recycling Industry

• Transportation Research and Development Assistance Program

II. Program Previously Determined To Be Terminated

• Exemption from Payment of Water Bills

Preliminary Results of Reviews

For the period January 1, 2005, through August 15, 2005, we preliminarily find the net subsidy rate for NHCI to be 0.00 percent.

Cash Deposit Instructions

On July 6, 2006, pursuant to section 751(d)(2) of the Act and 19 CFR 351.222(i)(1)(iii), the Department revoked the countervailing duty orders on pure magnesium and alloy magnesium from Canada (see Revocation of the Countervailing Duty Orders: Pure Magnesium and Alloy Magnesium from Canada, 71 FR 38382 (July 6, 2006)). The effective date of the revocations is August 16, 2005. As a result of this action, we do not intend to issue cash deposit instructions.

Liquidation Instructions

If the final results of these reviews remain the same as these preliminary results, we will instruct CBP to liquidate entries during the period January 1, 2005, through August 15, 2005, without regard to countervailing duties in accordance with 19 CFR 351.106(c)(1). The Department will issue appropriate instructions directly to CBP within 41 days of publication of the final results of these reviews.

For all other companies that were not reviewed (except Timminco Limited which is excluded from the orders), the Department has directed CBP to assess countervailing duties on all entries between January 1, 2005, and August 15, 2005, at the rates in effect at the time of entry.

Public Comment

Pursuant to 19 CFR 351.310(c), any interested party may request a hearing within 30 days of publication of this notice. Any hearing, if requested, will be held 42 days after the publication of this notice, or the first workday thereafter. Issues raised in the hearing will be limited to those raised in the case and rebuttal briefs. Pursuant to 19 CFR 351.309(c), interested parties may submit case briefs within 30 days of the date of publication of this notice. Rebuttal briefs, which must be limited to issues raised in the case briefs, may be filed not later than 35 days after the date of publication of this notice. See 19 CFR 351.309(d). Parties who submit case briefs or rebuttal briefs in this proceeding are requested to submit with each argument (1) a statement of the issue and (2) a brief summary of the argument with an electronic version included.

The Department will issue the final results of these administrative reviews, including the results of its analysis of issues raised in any such written briefs or hearing, within 120 days of publication of these preliminary results. See section 751(a)(3) of the Act.

We are issuing and publishing these results in accordance with sections 751(a)(1) and 777(i)(1) of the Act.

Dated: April 13, 2007.
David M. Spooner,
Assistant Secretary for Import Administration.

[FR Doc. E7-7598 Filed 4-19-07; 8:45 am]

BILLING CODE 3510-DS-S